DEPARTMENT OF ENERGY

Federal Energy Regulatory Commission

[Project No. 2576-210]

FirstLight CT Housatonic LLC; Notice of Effectiveness of Withdrawal of Application for Amendment of License

On October 5, 2023, FirstLight CT Housatonic LLC (licensee) filed an application for non-capacity amendment of the license for the 114.9-megawatt Housatonic River Hydroelectric Project No. 2576. On November 30, 2023, the licensee filed a notice of withdrawal of the amendment application. The project is located on the Housatonic River in the Fairfield, Litchfield, and New Haven counties, Connecticut.

No motion in opposition to the notice of withdrawal has been filed, and the Commission has taken no action to disallow the withdrawal. Pursuant to Rule 216(b) of the Commission's Rules of Practice and Procedure,¹ the withdrawal of the application became effective on December 15, 2023, and this proceeding is hereby terminated.

¹ 18 CFR 385.216(b) (2022).

Dated: December 19, 2023.
Debbie-Anne A. Reese,
Deputy Secretary.

[FR Doc. 2023-28437 Filed 12-22-23; 8:45 am]

BILLING CODE 6717-01-P